COMMITTEE FOR PURCHASE FROM PEOPLE WHO ARE BLIND OR SEVERELY DISABLED

Procurement List; Additions and Deletions

AGENCY: Committee for Purchase From People Who Are Blind or Severely Disabled.

ACTION: Additions to and deletions from the procurement list.

SUMMARY: This action adds product(s) and service(s) to the Procurement List that will be furnished by nonprofit agencies employing persons who are blind or have other severe disabilities, and deletes product(s) and service(s) from the Procurement List previously furnished by such agencies.

DATES: Date added to and deleted from the Procurement List: July 25, 2021.

ADDRESSES: Committee for Purchase From People Who Are Blind or Severely Disabled, 1401 S Clark Street, Suite 715, Arlington, Virginia 22202-4149.

FOR FURTHER INFORMATION CONTACT: Michael R. Jurkowski, Telephone: (703) 785-6404, or email CMTEFedReg@AbilityOne.gov.

SUPPLEMENTARY INFORMATION:

Additions

On 4/9/2021 and 4/30/2021, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s): 1095-01-577-1801—Knife, Combat, Tanto Point, Automatic, 3.6″ Blade

Designated Source of Supply: DePaul Industries, Portland, OR

Mandatory for: 100% of the requirement of the Department of Defense

Contracting Activity: DEFENSE LOGISTICS AGENCY, DLA LAND AND MARITIME

Distribution: C-List

Service(s)

Service Type: Facility Support Services

Designated for: U.S. Geological Survey, Western Fisheries Research Center—Marrowstone Marine Field Station, Nordland, WA

Mandatory Source of Supply: Skookum Educational Programs, Bremerton, WA

Contracting Activity: U.S. GEOLOGICAL SURVEY, OFFICE OF ACQUISITON GRANTS

Service Type: Custodial and Grounds Maintenance Services

Mandatory for: U.S. Customs and Border Protection, U.S. Border Patrol-San Diego Sector, Chula Vista, CA

Designated Source of Supply: Bona Fide Conglomerate, Inc., El Cajon, CA

Contracting Activity: U.S. CUSTOMS AND BORDER PROTECTION, BORDER ENFORCEMENT CTR DIV

Deletions

On 5/14/2021 and 5/21/2021, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 8465-00-753-6335—Kit, Maintenance

Contracting Activity: DLA TROOP SUPPORT, PHILADELPHIA, PA

NSN(s)—Product Name(s):

7920-01-512-9343—Mop Head, Wet, Looped-End, Anti-Microbial, 22 oz., Green

7920-01-512-9345—Mop Head, Wet, Looped-End, Anti-Microbial, 22 oz., Blue

7920-01-512-8965—Mop Head, Wet, Looped-End, Anti-Microbial, 32 oz., Green

7920-01-512-8972—Mop Head, Wet, Looped-End, Anti-Microbial, 32 oz., Blue

7920-01-512-9343—Mop Head, Wet, Looped-End, Anti-Microbial, 22 oz., Green

7920-01-512-9345—Mop Head, Wet, Looped-End, Anti-Microbial, 22 oz., Blue

7920-01-512-8965—Mop Head, Wet, Looped-End, Anti-Microbial, 32 oz., Green

7920-01-512-8972—Mop Head, Wet, Looped-End, Anti-Microbial, 32 oz., Blue

7920-00-782-3784—Flat Mop Frame, Plastic, 24″, Handles

7920-00-782-3784—Flat Mop Frame, Plastic, 24″, Handles

Designated Source of Supply: Alphapointe, Kansas City, MO

Contracting Activity: STRATEGIC ACQUISITION CENTER, FREDERICKSBURG, VA

NSN(s)—Product Name(s):

7930-01-513-1144—Cleaner, Glass, Floral, 1 Gallon

7930-01-512-7172—Cleaner, Washroom, Multi-Surface, Biobased, 1 Gal

7930-01-512-7759—Cleaner, All-Purpose, Low Foam, Biobased, 1 Gal

7930-01-513-6571—Cleaner, Heavy Duty, Biobased, Citrus, 1 Gal

Mandatory Source of Supply: The Lighthouse for the Blind, St. Louis, MO

Contracting Activity: GSA/FSS GREATER SOUTHWEST ACQUISITI, FORT WORTH, TX

NSN(s)—Product Name(s): 7520-01-587-9640—Pen, Ballpoint, Retractable, 3 Pack, Black, Fine Point

Mandatory Source of Supply: Industries for the Blind and Visually Impaired, Inc., West Allis, WI

Contracting Activity: GSA/FAS ADMIN SVCS ACQUISITION BR(2, NEW YORK, NY

NSN(s)—Product Name(s):

8415-01-515-4289—Cover, Advanced Combat Helmet System (ACH), w/o Communications Flap, Arctic White, Sm/Med

8415-01-515-4290—Cover, Advanced Combat Helmet System (ACH), w/o Communications Flap, Arctic White, Lg/XLg

Designated Source of Supply: Mount Rogers Community Services Board, Wytheville, VA

Contracting Activity: DLA TROOP SUPPORT, PHILADELPHIA, PA

NSN(s)—Product Name(s): 7520-01-484-5254—Pen, Ball Point, Retractable, Ergonomic, MD Executive Grip, Black Barrel, Black Ink, Medium Point

Designated Source of Supply: Industries for the Blind and Visually Impaired, Inc., West Allis, WI

Contracting Activity: GSA/FAS ADMIN SVCS ACQUISITION BR(2, NEW YORK, NY

NSN(s)—Product Name(s):

8455-01-645-2728—Neck Lanyard, Cord Style, J-Hook, Tan, 36″ x .25″

8455-01-645-2731—Neck Lanyard, Strap Style, J-Hook, Tan, 36″ x .75″

Designated Source of Supply: West Texas Lighthouse for the Blind, San Angelo, TX

Contracting Activity: GSA/FSS GREATER SOUTHWEST ACQUISITI, FORT WORTH, TX

Service(s)

Service Type: Photocopying

Mandatory for: Environmental Protection Agency, Research Triangle PK, NC

Mandatory Source of Supply: Winston-Salem Industries for the Blind, Inc., Winston-Salem, NC

Contracting Activity: ENVIRONMENTAL PROTECTION AGENCY, U.S. ENVIRONMENTAL PROTECTION AGENCY

Michael R. Jurkowski,
Deputy Director, Business Operations.

[FR Doc. 2021-13607 Filed 6-24-21; 8:45 am]

BILLING CODE 6353-01-P